DEPARTMENT OF DEFENSE

Department of the Navy

Record of Decision for the Guam and Commonwealth of Northern Mariana Islands Military Relocation: Relocating Marines from Okinawa, Visiting Aircraft Carrier Berthing, and Air and Missile Defense Task Force

Lead Agency: Department of the Navy, DoD.

Cooperating Agency: Department of the Army, DoD.

ACTION: Notice of Record of Decision.

SUMMARY: The Department of the Navy (DoN) and the Department of the Army (Army), after carefully weighing the environmental consequences of the proposed action, as well as considering operational and training requirements, strategic requirements, obligations under treaties and other international agreements, and cost, announce their decision to proceed with Guam and Commonwealth of Northern Mariana Islands (CNMI) Military Relocation.

As a result of redefining the United States (U.S.) defense posture in the Pacific region and the U.S. alliance with Japan, a portion of U.S. Marine Corps (USMC) forces currently located in Okinawa, Japan will be relocated to Guam. This relocation of USMC forces will meet international agreement and treaty requirements and fulfill U.S. national security policy requirements to provide mutual defense, deter aggression, and dissuade coercion in the Western Pacific Region in response to the evolving security environment in the Pacific region, as identified through the Integrated Global Presence and Basing Strategy and the Quadrennial Defense Review (QDR). The redefining of the U.S. defense posture in the Pacific also calls for greater availability of aircraft carrier strike groups in the Pacific to support engagement, presence, and deterrence. Finally, in support of the proposed military relocation, the stationing of an Air and Missile Defense Task Force (AMDTF) is also being considered. A significant number of countries have ballistic missile capabilities which can deliver conventional, nuclear, biological, and chemical weapons. Other countries are working to establish these capabilities and missile systems. The effective strike range of defensive ballistic missile systems dictates that they must be located in the proximity of the protected assets. The need for the proposed AMDTF is to protect the territory of Guam, its citizens, U.S. and allied forces on Guam from the threat of harm from ballistic missile attacks from other countries and enemies of the U.S.

Implementing the military relocation analyzed in the Environmental Impact Statement (EIS) will be a multi-agency, multi-year effort undertaken by the DoN, Army, Department of Transportation's Federal Highway Administration (FHWA), Guam utilities, Guam agencies, and various private entities. Implementation includes several components:

(1) Marine Corps: (a) Development and construction of facilities and infrastructure to support approximately 8,600 Marines and their 9,000 dependents being relocated from Okinawa to Guam. (b) Development and construction of facilities and infrastructure to support training and operations on Guam and Tinian (located in the CNMI).

DoN has elected to defer selection of a specific site for the construction and operation of a live fire training range complex in the Route 15 area in Guam pending completion of the Section 106 consultation process under the National Historic Preservation Act (NHPA). Likewise, a selection regarding implementation of a roadway improvement project calling for a realignment of Route 15 is hereby deferred pending selection of a specific site for the construction.

(2) Navy: Construction of a new deep-draft wharf with shoreside infrastructure improvements creating the capability in Apra Harbor, Guam to support a transient nuclear powered aircraft carrier.

DoN has elected to defer selection of a specific site for the construction and operation of a transient aircraft carrier berth within Apra Harbor for the near term. However, the analysis presented in the EIS, including the marine resources impacts analysis, provides sufficient information to allow the DoN to fully consider the direct, indirect and cumulative environmental impacts of locating a transient aircraft carrier berth and make a programmatic decision to locate a transient aircraft carrier berth generally within Apra Harbor, which is the only deep draft harbor on the island of Guam that could support such a berth.

(3) Army: Development of facilities and infrastructure on Guam to support relocating approximately 600 military personnel and their 900 dependents to establish and operate an Air and Missile Defense Task Force (AMDTF).

As of the date of this Record of Decision (ROD), the Department of Defense (DoD) has not decided to construct and operate an AMDTF on Guam. The decision on whether to assign this mission to the Army will be made pending the results of the ongoing regional and global Ballistic Missile Defense architectural and capability studies. It will also be based in part on the EIS for this proposed action with Guam as one site that is under consideration for an AMDTF mission. The EIS was prepared noting that if the mission were assigned to Army, the alternatives presented in the EIS represent how Army could implement the action on Guam. Army has selected the preferred alternatives described in Volume 5 of the EIS as the appropriate manner to implement the proposed action if and when the mission is assigned.

(4) Utilities: Renovation and development of additional capacity for power, water, and wastewater systems, both on base and off base, to support the increased demand from the new Marine Corps Base and associated growth in DoD and civilian population caused by the Relocation.

(5) Off-base Roadways: Improvements to off base roads, bridges, and intersections to support increased traffic and offset significant impacts caused by the Relocation.

Each of the major actions noted above encompasses several construction projects to provide required facilities and infrastructure. Most of the major actions and their supporting projects have alternative sites located throughout the island of Guam. This ROD will document and demonstrate why DoD has chosen to implement the preferred alternatives for each of the actions described in the EIS, except as noted above.

Because DoN and Army are preparing this ROD as a joint effort, both concur and support the decisions expressed within it. The ROD includes descriptions and discussions of the proposed actions and their impacts. It also includes descriptions and discussions of all related actions and their impacts. Combined, these two elements—proposed and related actions, with associated impacts—provide the context for consideration of the collective and cumulative impacts associated with all actions addressed in the EIS.

While this ROD represents the decisions of DoN and Army regarding the proposed actions, Federal agencies have greatly contributed to formulating and refining the approach to implementing actions and associated mitigation measures. Led by Council on Environmental Quality (CEQ) facilitated discussions, DoD reached major agreements with various Federal regulatory agencies regarding key issues, refined action alternatives for Guam's potable water and wastewater systems, committed to the use of force flow reduction and Adaptive Program Management (APM) as mitigation measures, and established a Civil-Military Coordination Council (CMCC) to implement APM. All of these actions are discussed with greater detail within the ROD. DoN would like to recognize the efforts of CEQ, the U.S. Environmental Protection Agency (EPA), the Department of Interior (DOI), the National Oceanographic and Atmospheric Administration (NOAA), and the Government of Guam Agencies and thank them for their participation and assistance in seeking resolution to the many challenges confronting DoD in the completion of the NEPA process for this proposed action. It is also recognized that as the military construction projects necessary to implement the actions move forward, each of these agencies will have a continuing role through either a regulatory, permitting, or advisory capacity and will continue to partner in the implementation of the actions.

This ROD was prepared in accordance with CEQ Regulations for Implementing the Procedural Provisions of NEPA 40 CFR parts 1500 to 1508 and specifically, 40 CFR 1505.2—Record of decision in cases requiring environmental impact statements.

FOR FURTHER INFORMATION CONTACT: Mr. Darrell Molzan, Environmental Director, Joint Guam Program Office, Office of the Assistant Secretary of the Navy (Energy, Installations and Environment), 1000 Navy Pentagon, Washington, DC 20350.

SUPPLEMENTARY INFORMATION: Pursuant to 42 U.S.C. 4321 et seq. (Section 101 et seq. of NEPA); the regulations of the President's Council on Environmental Quality (CEQ) that implement NEPA procedures (40 CFR Parts 1500-1508); Department of Defense (DoD) Instruction 4715.9, Environmental Planning and Analysis; and applicable DoN environmental regulations and instructions that implement these laws and regulations, the DoN announces its decision to relocate U.S. Marines Corps forces from Okinawa, Japan to Guam, construct the infrastructure to support this relocation effort, and conduct training and operations on Guam and Tinian with the relocated Marine Corps forces. Additionally, the Navy announces its decision to construct and operate a berth for a transient nuclear aircraft carrier in Guam. The Army announces its decision regarding construction and operation of AMDTF facilities on Guam if tasked in the future with the mission of providing ballistic missile defense for Guam. Additionally, DoN announces it decision regarding the preferred solutions for roadway and utility system improvements on Guam to support the military buildup.

To implement the actions necessary for relocating U.S. Marine Corps forces from Okinawa to Guam, the DoN has decided to select all of the preferred alternatives described in Volumes 2, 3 and 6 of the EIS and to implement all mitigation measures noted in this ROD, except as noted below. Relative to Volume 2 and the construction and operation of facilities on Guam, the major actions and decisions include the following: (1) For a main cantonment area DoN selects Alternative 2. Implementation of this alternative would involve utilizing DoD-owned lands at NCTS Finegayan and South Finegayan Navy Housing and acquiring non-DoD-owned land known as the former FAA parcel. (2) For access to the Naval Munitions Site (NMS) DoN selects Alternative B, which involves the use of the existing hiking trail as the access road. (3) For the location of additional ammunition storage at NMS DoN selects Alternative A, the use of Parson's Road. (4) For airfield functions DoN selects the following actions: beddown of the Marine Corps Air Combat Element (ACE) and construction of associated facilities at Andersen AFB North Ramp, construction of air embarkation facilities at Andersen AFB South Ramp, and construction of the North Gate and access road at Andersen AFB. (5) For Marine Corps embarkation facilities DoN selects to refurbish various wharfs and upgrade utilities to support waterfront functions and operations at Naval Base Guam, associated dredging and dredge disposal management (with a priority for beneficial reuse of dredge material), relocation of military working dog kennels at Naval Base Guam, and construction of a medical/dental clinic at Naval Base Guam.

Relative to the construction and operation of a live-fire training range complex on Guam, DoN has elected to defer selection of a specific site in the Route 15 area pending completion of the Section 106 consultation process under the National Historic Preservation Act (NHPA). Alternative A remains DoN's preferred alternative. Upon completion of the Section 106 consultation process, should DoN select this alternative it would involve the acquisition of approximately 1,090 acres of non-DoD owned lands on a plateau across from Andersen AFB South along Route 15.

Relative to Volume 3 and actions on Tinian, DoN selects Alternative 1, which will involve the construction and operation of Known Distance (KD) rifle, Pistol/MP, Platoon, and Field live fire training ranges on north/northeast, north, or northeast alignments respectively.

Relative to Volume 6 and solutions to meet required utilities improvements necessary to support the military build-up on Guam: (1) For power DoN selects solutions that will include reconditioning up to five (5) existing GPA combustion turbine (CT) power generation units. Additionally, the power solution will involve power transmission and distribution line upgrades to provide the appropriate level of reliability to serve military needs at Apra Harbor, NCTS Finegayan, and Andersen AFB. (2) For potable water DoN selects solutions that will include the provision of an additional potable water capacity of 11.3 million gallons per day (MGd) through the establishment of up to 22 new DoD water wells at Andersen AFB, rehabilitation of existing wells, interconnects with the GWA water system, and construction of associated treatment, storage and transmission systems. (3) For wastewater DoN selects solutions that will include repairs and upgrades to primary treatment capabilities at the Northern District Waste Water Treatment Plant (NDWWTP), improvements to the NDWWTP to achieve secondary treatment standards and expansion of the plant beyond the current design capacity of 12 MGd, improvements to the Northern and Central wastewater collection systems, and improvements to the Hagåtña WWTP to achieve secondary treatment standards. (4) For solid waste DoN selects solutions that will continue the use of existing Navy Apra Harbor landfill until the new GovGuam public landfill at Layon is completed.

Relative to Volume 6 and roadway improvements DoN selects Alternative 2, Limited Roadway Improvements, which involves a limited number of off-base roadway and intersection improvement projects that have received DAR certification or that have been deemed DAR-eligible. These projects include roadway widening, intersection improvements, bridge replacements, pavement strengthening at specific locations island-wide, and military access points as well as the realignment of a portion of Route 15.

Based on the level of concern expressed in comments on the Draft EIS, continued discussions with cooperating agencies under NEPA, and the DoN's continuing commitment to environmental stewardship, the DoN has elected to defer selection of a specific site for the construction and operation of a transient aircraft carrier berth within Apra Harbor for the near term. However, the analysis presented in the EIS, including the marine resources impacts analysis, provides sufficient information to allow the DoN to fully consider the direct, indirect and cumulative environmental impacts of locating a transient aircraft carrier berth and make a programmatic decision to locate a transient aircraft carrier berth generally within Apra Harbor, which is the only deep draft harbor on the island of Guam that could support such a berth.

Discussions with the EPA, NOAA, and the DOI identified additional data these agencies would prefer were available for use in analyzing specific sites for placement of the transient nuclear aircraft carrier wharf. The Navy will voluntarily collect additional data on marine resources in Apra Harbor at the alternative transient aircraft carrier berth sites still under consideration by the Navy as set out in Volume 4 of the EIS. The type and scope of the additional data to be collected has been developed cooperatively with EPA, NOAA, and DOI and is described in the “Final Scope of Work Elements for Marine Surveys of the CVN Transient Berth Project Area, Potential Mitigation sites, and Habitat Equivalency Analysis” included in Volume 9, Appendix J of the EIS. The additional data collected, associated analysis, and any other data that may be required by the United States Army Corps of Engineers (USACE) during the Clean Water Act (CWA) permitting process, will be used in the future to inform the subsequent selection of a specific site for the transient aircraft carrier berth and to support any future CWA permitting decisions for the selected site, including compensatory mitigation.

As of the signatory date of this ROD, the DoD has not decided to assign this mission to the Army nor to construct and operate an AMDTF on Guam. The decision on whether to assign this mission to the Army, and subsequently construct and operate an AMDTF on Guam, will be made pending the results of the ongoing regional and global Ballistic Missile Defense architectural and capability studies. Guam is one site that is under consideration for an AMDTF mission. The EIS was prepared noting that if the mission were assigned to Army, the alternatives presented in the EIS best represent how Army will implement the action on Guam. Army has selected the preferred alternatives described within Volume 5 of the EIS as the appropriate and desired manner to implement the proposed action if and when the mission is assigned.

The full text of the ROD is available at http://www.guambuildupeis.us. Hard copies of the ROD will be available at the following locations: University of Guam Robert F. Kennedy Memorial Library, Government Documents Tan Siu Lin Building, UOG Station, Mangilao, GU 96923; Nieves M. Flores Memorial Library, 254 Martyr Street, Hagåtña, GU 96910; Tinian Public Library, P.O. Box 520704, Tinian, MP 96952; Joeten-Kiyu Public Library, P.O. Box 501092, Saipan, MP 96950; Olympio T. Borja Memorial Library, P.O. Box 501250, Saipan, MP 96950.

Dated: September 23, 2010.
D.J. Werner
Lieutenant Commander, Office of the Judge Advocate General, U.S. Navy, Federal Register Liaison Officer.

[FR Doc. 2010-24478 Filed 9-29-10; 8:45 am]

BILLING CODE 3810-FF-P